DEPARTMENT OF DEFENSE

Department of the Air Force

2019 Virtual Public Interface Control Working Group for the NAVSTAR GPS Public Documents

AGENCY: Global Positioning System Directorate (GPSD), Department of the Air Force, Department of Defense.

ACTION: Meeting notice.

SUMMARY: This notice informs the public that the Global Positioning Systems (GPS) Directorate will host a “Virtual” 2019 Public Interface Control Working Group on May 7, 2019 for the following NAVSTAR GPS public documents: IS-GPS-200 (Navigation User Interfaces), IS-GPS-705 (User Segment L5 Interfaces), and IS-GPS-800 (User Segment L1C Interface). Additional logistical details can be found below.

DATES: 0830-1030 PST, 7 May, 2019.

FOR FURTHER INFORMATION CONTACT: Captain Michael Telcide (310-653-3163) or Mr. Daniel Godwin (310-653-3163); SMCGPER@us.af.mil.

SUPPLEMENTARY INFORMATION:

Call-in Information: Dial In: 310-653-2663, Meeting ID: 6729512, Password: 123456.

The purpose of this meeting is to update the public on GPS public document revisions and collect issues/comments for analysis and possible integration into future GPS public document revisions. Since the last Public Interface Control Working Group held on 12 September 2018, solutions to some of the topics have changed.

Specifically, GPS public documents will be updated to reflect how users will calculate the correct UT1 time following a leap second transition. All outstanding comments on GPS public documents will be considered in the next revision cycle (~Fall 2019). The “Virtual” 2019 Public Interface Control Working Group is open to the general public. The subject meeting will be dial-in only. For those who would like to attend and participate, we request that you register no later than May 3, 2019. Please send the registration information to SMCGPER@us.af.mil, providing your name, organization, telephone number, email address, and country of citizenship.

Comments will be collected, catalogued, and discussed as potential inclusions to the version following the current release. If accepted, these changes will be processed through the formal directorate change process for IS-GPS-200, IS-GPS-705, and IS-GPS-800. All comments must be submitted in a Comments Resolution Matrix. This form along with proposed document revisions of the documents and the official meeting notice are posted at: http://www.gps.gov/technical/icwg/meetings/2019/05.

Please submit comments to the SMC/GPS Requirements (SMC/GPER) mailbox at SMCGPER@us.af.mil by May 3, 2019. Subject review materials will be posted NLT March 20, 2019. For more information, please contact Captain Michael Telcide at 310-653-3163 or Mr. Daniel Godwin at 310-653-3640.

Carlinda N. Lotson,
TSgt, USAF, Acting Air Force Federal Register Liaison Officer.

[FR Doc. 2019-05470 Filed 3-25-19; 8:45 am]

BILLING CODE 5001-10-P